DEPARTMENT OF ENERGY

Federal Energy Regulatory Commission

[Docket No. RP04-171-000]

Portland Natural Gas Transmission System; Notice of Proposed Change in FERC Gas Tariff

February 19, 2004.

Take notice that on February 17, 2004, Portland Natural Gas Transmission System (PNGTS) tendered for filing as part of its FERC Gas Tariff, Original Volume No. 1, the tariff sheets attached to the filing, to become effective on April 1, 2004.

PNGTS states that the purpose of its filing is to establish a new firm transportation service, i.e., “Hourly Reserve Service” (or “HRS”), which will be provided under a new Rate Schedule HRS. PNGTS states that it is proposing HRS service to provide additional options and flexibility to shippers, such as electricity generators, or those serving electricity generators, whose intra-day delivery requirements may not be uniform and who may require accelerated flow rates and minimum delivery pressures during particular periods of the gas day. PNGTS states that its provision of HRS service will not impair its ability to provide existing FT service and that PNGTS will provide HRS service from available system capacity; therefore no new facilities construction is required.

PNGTS states that copies of this filing are being served on all jurisdictional customers and interested State commissions.

Any person desiring to be heard or to protest said filing should file a motion to intervene or a protest with the Federal Energy Regulatory Commission, 888 First Street, NE., Washington, DC 20426, in accordance with sections 385.214 or 385.211 of the Commission's rules and regulations. All such motions or protests must be filed in accordance with section 154.210 of the Commission's regulations. Protests will be considered by the Commission in determining the appropriate action to be taken, but will not serve to make protestants parties to the proceedings. Any person wishing to become a party must file a motion to intervene. This filing is available for review at the Commission in the Public Reference Room or may be viewed on the Commission's Web site at http://www.ferc.gov using the eLibrary. Enter the docket number excluding the last three digits in the docket number field to access the document. For assistance, please contact FERC Online Support at FERCOnlineSupport@ferc.gov or toll-free at (866) 208-3676, or TTY, contact (202) 502-8659. The Commission strongly encourages electronic filings. See 18 CFR 385.2001(a)(1)(iii) and the instructions on the Commission's Web site under the e-Filing link.

Magalie R. Salas,
Secretary.

[FR Doc. E4-389 Filed 2-25-04; 8:45 am]

BILLING CODE 6717-01-P